DEPARTMENT OF HOMELAND SECURITY

U.S. Citizenship and Immigration Services

[CIS No. 2848-26; DHS Docket No. USCIS-2013-0006]

RIN 1615-ZB77

Termination of the Designation of Somalia for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of Somalia for Temporary Protected Status. The designation of Somalia is set to expire on March 17, 2026. After reviewing country conditions and consulting with appropriate U.S. Government agencies, the Secretary determined that Somalia no longer continues to meet the conditions for designation for Temporary Protected Status. The Secretary, therefore, is terminating the Temporary Protected Status designation of Somalia as required by statute. This termination is effective March 17, 2026. After March 17, 2026, nationals of Somalia (and aliens having no nationality who last habitually resided in Somalia) who have been granted Temporary Protected Status under Somalia's designation will no longer have Temporary Protected Status.

DATES: The designation of Somalia for Temporary Protected Status is terminated, effective at 11:59 p.m., local time, on March 17, 2026.

FOR FURTHER INFORMATION CONTACT: Office of Policy and Strategy, U.S. Citizenship and Immigration Services, Department of Homeland Security, (240) 721-3000.

SUPPLEMENTARY INFORMATION:

List of Abbreviations

CFR—Code of Federal Regulations

DHS—U.S. Department of Homeland Security

EAD—Employment Authorization Document

FR—Federal Register

FRN—Federal Register Notice

Government—U.S. Government

INA—Immigration and Nationality Act

Secretary—Secretary of Homeland Security

State—Department of State

TPS—Temporary Protected Status

USCIS—U.S. Citizenship and Immigration Services

U.S.C.—United States Code

What Is Temporary Protected Status?

The Immigration and Nationality Act (INA) authorizes the Secretary of Homeland Security, after consultation with appropriate agencies of the U.S. Government, to designate a foreign state (or part thereof) for Temporary Protected Status (TPS) if the Secretary determines that certain country conditions exist. See INA sec. 244(b)(1), 8 U.S.C. 1254a(b)(1). The Secretary, in her discretion, may grant Temporary Protected Status to eligible nationals of that foreign state (or aliens having no nationality who last habitually resided in the designated foreign state). See INA sec. 244(a)(1)(A), 8 U.S.C. 1254a(a)(1)(A).

At least 60 days before the expiration of a foreign state's Temporary Protected Status designation or extension, the Secretary—after consultation with appropriate U.S. Government agencies—must review the conditions in the foreign state designated for Temporary Protected Status and determine whether the conditions for the Temporary Protected Status designation continue to be met. See INA sec. 244(b)(3)(A), 8 U.S.C. 1254a(b)(3)(A). If the Secretary determines that the conditions in the foreign state continue to meet the specific statutory criteria for the Temporary Protected Status designation, Temporary Protected Status will be extended for an additional period of 6 months or, in the Secretary's discretion, 12 or 18 months. See INA sec. 244(b)(3)(A), (C), 8 U.S.C. 1254a(b)(3)(A), (C). If the Secretary determines that the foreign state no longer meets the conditions for the Temporary Protected Status designation, the Secretary must terminate the designation. See INA sec. 244(b)(3)(B), 8 U.S.C. 1254a(b)(3)(B). There is no judicial review of “any determination of the [Secretary] with respect to the designation, or termination or extension of a designation of a foreign state” for Temporary Protected Status. See INA sec. 244(b)(5)(A), 8 U.S.C. 1254a(b)(5)(A).

Temporary Protected Status is a temporary immigration benefit granted to eligible nationals of a country designated for Temporary Protected Status under the Immigration and Nationality Act, or to eligible aliens without nationality who last habitually resided in the designated country. During the designation period, Temporary Protected Status beneficiaries are eligible to remain in the United States and may not be removed so long as they continue to meet the requirements of Temporary Protected Status. In addition, Temporary Protected Status beneficiaries are authorized to work and obtain an Employment Authorization Document (EAD), if requested. Temporary Protected Status beneficiaries may also apply for and be granted travel authorization as a matter of discretion. The granting of Temporary Protected Status does not result in or lead to lawful permanent resident status or any other immigration status.

To qualify for Temporary Protected Status, beneficiaries must meet the eligibility standards at INA section 244(c)(2), 8 U.S.C. 1254a(c)(2) in accordance with the implementing regulations at 8 CFR parts 244 and 1244. When the Secretary terminates a country's designation, beneficiaries return to the same immigration status or category that they maintained before Temporary Protected Status, if any (unless that status or category has since expired or been terminated), or any other lawfully obtained immigration status or category they received while registered for Temporary Protected Status, as long as it is still valid on the date Temporary Protected Status terminates.

Designation of Somalia for Temporary Protected Status

Somalia was initially designated for Temporary Protected Status on September 16, 1991, based on a determination that there were “extraordinary and temporary conditions” in Somalia that prevented Somali nationals from returning in safety and that permitting nationals of Somalia to remain temporarily in the United States is not contrary to the national interest of the United States.¹ The initial Temporary Protected Status designation for Somalia was extended nine times, from September 17, 1992-September 17, 1993,² September 18, 1993-September 17, 1994,³ September 18, 1994-September 17, 1995,⁴ September 18, 1995-September 17, 1996,⁵ September 18, 1996-September 17, 1997,⁶ September 18, 1997-September 17, 1998,⁷ September 18, 1998-September 17, 1999,⁸ September 18, 1999-September 17, 2000,⁹ and September 18, 2000-September 17, 2001.¹⁰

¹ Designation of Nationals of Somalia for Temporary Protected Status, 56 FR 46804 (Sept. 16, 1991); see INA 244(b)(1)(C), 8 U.S.C. 1254a(b)(1)(C).

² Extension of Designation of Somalia Under Temporary Protected Status Program, 57 FR 32232 (July 21, 1992).

³ Extension of Designation of Somalia Under Temporary Protected Status Program, 58 FR 48898 (Sept. 20, 1993).

⁴ Extension of Designation of Somalia Under Temporary Protected Status Program, 59 FR 43359 (Aug. 23, 1994).

⁵ Extension of Designation of Somalia; Under Temporary Protected Status Program, 60 FR 39005 (July 31, 1995).

⁶ Extension of Designation of Somalia Under Temporary Protected Status Program, 61 FR 39472 (July 29, 1996).

⁷ Extension of Designation of Somalia Under Temporary Protected Status Program, 62 FR 41421 (Aug. 1, 1997).

⁸ Extension of Designation of Somalia Under Temporary Protected Status Program, 63 FR 50156 (Sept. 18, 1998).

⁹ Extension of Designation of Somalia Under Temporary Protected Status Program, 64 FR 49511 (Sept. 13, 1999).

¹⁰ Extension of Designation of Somalia Under Temporary Protected Status Program, 65 FR 69789 (Nov. 11, 2000).

In September 2001, the Temporary Protected Status designation for Somalia was extended, and Somalia was newly designated (referred to as a redesignation).¹¹ Thereafter, the Temporary Protected Status designation for Somalia was extended eight times, from September 17, 2002-September 17, 2003,¹² September 17, 2003-September 17, 2004,¹³ September 17, 2004-September 17, 2005,¹⁴ September 17, 2005-September 17, 2006,¹⁵ September 17, 2006-March 17, 2008,¹⁶ March 18, 2008-September 17, 2009,¹⁷ September 18, 2009-March 17, 2011,¹⁸ and March 18, 2011-September 17, 2012.¹⁹ Although Somalia was initially designated for Temporary Protected Status on the sole basis of extraordinary and temporary conditions, the July 2002 extension designated Somalia for Temporary Protected Status on the dual bases of ongoing armed conflict and extraordinary and temporary conditions.²⁰ Subsequent designations included these dual bases as justification for continuing designation.

¹¹ Extension and Redesignation of Somalia under Temporary Protected Status Program, 66 FR 46288 (Sept. 4, 2001).

¹² Extension of the Designation of Somalia Under the Temporary Protected Status Program, 67 FR 48950 (July 26, 2002).

¹³ Extension of the Designation of Somalia Under Temporary Protected Status Program, 68 FR 43147 (July 21, 2003).

¹⁴ Extension of the Designation of Temporary Protected Status for Somalia, 69 FR 47937 (Aug. 6, 2004).

¹⁵ Extension of the Designation of Somalia for Temporary Protected Status, 70 FR 43895 (July 29, 2005).

¹⁶ Extension of the designation of Temporary Protected Status for Somalia; Automatic Extension of Employment Authorization Documentation for Somalia TPS Beneficiaries, 71 FR 42658 (July 27, 2006).

¹⁷ Extension of the Designation of Somalia for Temporary Protected Status; Automatic Extension of Employment Authorization Documentation for Somali Temporary Protected Status Beneficiaries, 73 FR 13245 (Mar. 12, 2008).

¹⁸ Extension of the Designation of Somalia for Temporary Protected Status and Automatic Extension of Employment Authorization Documentation for Somalian TPS Beneficiaries, 74 FR 37043 (July 27, 2009).

¹⁹ Extension of the Designation of Somalia for Temporary Protected Status, 75 FR 67383 (Nov. 2, 2010).

²⁰ See Extension of the Designation of Somalia Under the Temporary Protected Status Program, 67 FR 48950 (July 26, 2002).

In May 2012, the Temporary Protected Status designation for Somalia was extended, and Somalia again was newly designated.²¹ Temporary Protected Status for Somalia was subsequently extended an additional five times, from March 18, 2014-September 17, 2015,²² September 18, 2015-March 17, 2017,²³ March 18, 2017-September 17, 2018,²⁴ September 18, 2018-March 17, 2020,²⁵ and March 18, 2020-September 17, 2021.²⁶

²¹ Extension and Redesignation of Somalia for Temporary Protected Status, 77 FR 25723 (May 1, 2012).

²² Extension of the designation of Somalia for Temporary Protected Status, 78 FR 65690 (Nov. 1, 2013).

²³ Extension of the Designation of Somalia for Temporary Protected Status, 80 FR 31056 (June 1, 2015).

²⁴ Extension of the Designation of Somalia for Temporary Protected Status, 82 FR 4905 (Jan. 17, 2017).

²⁵ Extension of the Designation of Somalia for Temporary Protected Status, 83 FR 43695 (Aug. 27, 2018).

²⁶ Extension of the Designation of Somalia for Temporary Protected Status, 85 FR 14229 (Mar. 11, 2020).

After these extensions, the Temporary Protected Status designation for Somalia was extended and Somalia was newly designated three times, from September 18, 2021-March 17, 2023,²⁷ March 18, 2023-September 17, 2024,²⁸ and September 18, 2024-March 17, 2026.²⁹

²⁷ Extension and Redesignation of Somalia for Temporary Protected Status, 86 FR 38744 (July 22, 2021).

²⁸ Extension and Redesignation of Somalia for Temporary Protected Status, 88 FR 15434 (Mar. 13, 2023).

²⁹ Extension and Redesignation of Somalia for Temporary Protected Status, 89 FR 59135 (July 22, 2024).

Secretary's Authority To Terminate the Designation of Somalia for Temporary Protected Status

At least 60 days before the expiration of a foreign state's Temporary Protected Status designation or extension, the Secretary—after consultation with appropriate U.S. Government agencies—must review the conditions in the foreign state designated for Temporary Protected Status to determine whether the country continues to meet the conditions for the designation. See INA sec. 244(b)(3)(A), 8 U.S.C. 1254a(b)(3)(A). If the Secretary determines that the foreign state no longer meets the conditions for the Temporary Protected Status designation, the Secretary must terminate the designation. See INA sec. 244(b)(3)(B), 8 U.S.C. 1254a(b)(3)(B). The termination may not take effect earlier than 60 days after the date the Federal Register notice of termination is published, or if later, the expiration of the most recent previous extension of the country designation. See id. The Secretary may determine the appropriate effective date of the termination and expiration of any Temporary Protected Status-related documentation, such as EADs, issued or renewed after the effective date of termination. See id.; see also INA sec. 244(d)(3), 8 U.S.C. 1254a(d)(3) (providing the Secretary the discretionary “option” to allow for a certain “orderly transition” period if she determines it to be appropriate).

Reasons for the Secretary's Termination of the Temporary Protected Status Designation for Somalia

Consistent with INA section 244(b)(3)(A), 8 U.S.C. 1254a(b)(3)(A), after consulting with appropriate U.S. Government agencies, the Secretary reviewed country conditions in Somalia and considered whether Somalia continues to meet the conditions for the designation under INA sections 244(b)(1)(A), 8 U.S.C. 1254a(b)(1)(A) and 244(b)(1)(C), 8 U.S.C. 1254a(b)(1)(C). This review included examining under INA section 244(b)(1)(A), 8 U.S.C. 1254a(b)(1)(A), whether there is ongoing armed conflict within the state, and whether, due to such conflict, requiring aliens who are nationals of that state to return would pose a serious threat to their personal safety. The Secretary also examined under INA section 244(b)(1)(C), 8 U.S.C. 1254a(b)(1)(C), whether extraordinary and temporary conditions in Somalia that prevent Somali nationals from returning in safety continue to exist, and if permitting Somali nationals to remain temporarily in the United States is contrary to the national interest of the United States.

Pursuant to INA section 244(b)(1)(A), 8 U.S.C. 1254a(b)(1)(A), the Secretary first examined whether there is ongoing armed conflict within Somalia and whether due to such conflict, requiring aliens who are nationals of that state to return would pose a serious threat to their personal safety. After independence in 1960, Somalia experienced Siad Barre's 1969 military coup and the increasingly authoritarian, clan-based governance that followed, creating widespread unrest that eventually led to the regime's collapse and the country's descent into turmoil in 1991.³⁰ Following Barre's ouster in January 1991, “no central government reemerged to take the place of the overthrown government . . . the country descended into chaos, and a humanitarian crisis of staggering proportions began to unfold.” ³¹ In the context of these events, the former U.S. Attorney General designated Somalia for Temporary Protected Status on the basis of extraordinary and temporary conditions in September 1991.³² Following the withdrawal of international forces and years of clan-related conflict, Somalia lacked a functioning central government for more than two decades, until political institutions gradually re-emerged and were formally recognized by the United States in 2013:

³⁰ U.S. Department of State, Office of the Historian, “Somalia, 1992—1993” (last visited Nov. 21, 2025), https://history.state.gov/milestones/1993-2000/somalia.

³¹ Id.

³² Designation of Nationals of Somalia for Temporary Protected Status, 56 FR 46804 (Sept. 16, 1991).

“In 2013, the United States officially recognized Somalia's government for the first time in 22 years, underscoring tenuous political improvements and advances against Al Shabaab. The International Monetary Fund (IMF) followed, enabling IMF technical assistance. In 2016, the United States sent its first ambassador to Somalia since 1991 and, in 2008 (sic 2018),³³ reestablished a permanent diplomatic presence. With support from donors, [African Union] forces, and other security and development partners, the country has transitioned from a “failed state” to a “fragile state.” ” ³⁴

³³ U.S. Department of State, Reestablishment of a Permanent Diplomatic Presence in Somalia (Dec. 4, 2018), https://2017-2021.state.gov/reestablishment-of-a-permanent-diplomatic-presence-in-somalia/.

³⁴ Congressional Research Service, “Somalia” (June 30, 2025), https://www.congress.gov/crs-product/IF10155.

In September 2025, the President of Somalia, Hassan Sheikh Mohamud, addressed the United Nations (UN) General Assembly, describing the country's progress as the result of “real national effort supported by truly committed international partners” and highlighted Somalia's transition away from the all-out civil conflict that began anew in 2012.³⁵ He emphasized that Somalia is now confronting only “the last remaining pockets of international terrorism while building a strong and sustainable national security architecture,” a characterization that underscores that the country is no longer experiencing an ongoing armed conflict.³⁶ Thus, while conditions at the time of previous designations reflected an ongoing armed conflict, Somalia today shows improved national governance and security structures and now experiences localized pockets of violence rather than nationwide, generalized conflict.

³⁵ UN News, “Post-war Somalia proves multilateralism can make the world a better place, says President” (Sept. 25, 2025) https://news.un.org/en/story/2025/09/1165952.

³⁶ Id.

Moreover, requiring Somali nationals to return to Somalia would not pose a serious threat to their personal safety as there are areas within Somalia where Somali nationals may live in safety. For example, Somaliland, a territory in the north of Somalia, “has widely been seen as an “oasis” for stability in a turbulent region.” ³⁷ Additionally, Puntland, an autonomous state, was described in early 2024 as “a destination for many Somalis displaced by violence in the south.” ³⁸ U.S. Somalia policy historically has recognized the sovereignty and territorial integrity of Somalia within its 1960 borders which includes Somaliland, Puntland, and Jubaland as part of its “One Somalia” policy.³⁹ Additionally, clan ties play a significant role in life and society in Somalia and Somaliland and Puntland are no exception. Somaliland is home to several clans and minority groups. While people belonging to different clans or ethnic groups can generally reside across Hargeisa, the largest city, certain districts are dominated by certain groups. There are no formal requirements or restrictions to access and settle in Hargeisa, despite Somaliland's claim of independence. In Puntland, society is also clan-based and there are members of various clans, including those that came from southern Somalia and minority groups that have a significant presence in the largest city, Garowe.⁴⁰ Furthermore, the data surrounding internal displacement does indicate parts of the country are suitable for Somali nationals to safely return.⁴¹

³⁷ Council on Foreign Relations, “Somaliland: The Horn of Africa's Breakaway State” (Jan. 21, 2025), https://www.cfr.org/backgrounder/somaliland-horn-africas-breakaway-state (discussing Somalilanders as part of an ethnically and de facto politically separate entity from Somalia).

³⁸ British Broadcasting Corporation (BBC), “Puntland profile” (Apr. 3, 2024), https://www.bbc.com/news/world-africa-14114727 (Puntland in 2024 declared its functional separation from the federal country of Somalia).

³⁹ Congressional Research Service, “Somalia” (Jun. 30, 2025), https://www.congress.gov/crs-product/IF10155.

⁴⁰ See European Union Agency for Asylum, “Country of Origin Information Report—Somalia: Country Focus” (May 2025), https://www.euaa.europa.eu/sites/default/files/publications/2025-05/2025_05_EUAA_COI_Report_Somalia_Country_Focus.pdf.

⁴¹ United Nations High Commissioner for Refugees (UNHCR), “Internal Displacement” (last accessed Nov. 21, 2025), https://data.unhcr.org/en/dataviz/1?sv=1&geo=192.

Pursuant to INA section 244(b)(1)(C), 8 U.S.C. 1254a(b)(1)(C), the Secretary examined whether extraordinary and temporary conditions in Somalia that prevent Somali nationals from returning in safety continue to exist, and if permitting Somali nationals to remain temporarily in the United States is contrary to the national interest of the United States.

For decades, Somalia has endured prolonged conflicts and climatic shocks impacting food security. In a recent press briefing, the United Nations Secretary-General spokesperson stated: “severe drought in the country is putting millions of people's lives at risk” and “approximately 3.4 million people in Somalia are currently experiencing high levels of acute food insecurity.” ⁴² Al Shabaab, a designated Foreign Terrorist Organization, “continues to exploit the Somalian government's limited state capacity and the country's dire humanitarian crises to launch indiscriminate attacks against government forces, foreign peacekeepers, and civilians.” ⁴³

⁴² United Nations, “Daily Press Briefing by the Office of the Spokesperson for the Secretary-General” (Nov. 13, 2025), https://press.un.org/en/2025/db251113.doc.htm.

⁴³ Council on Foreign Relations, “Conflict With Al-Shabaab in Somalia” (Sept. 15, 2025), https://www.cfr.org/global-conflict-tracker/conflict/al-shabab-somalia.

Despite these ongoing challenges in Somalia, the World Bank has stated that “Somalia has made significant progress in recent years, consolidating its federal system of governance, strengthening capacity of government institutions and supporting inclusive private sector-led growth, while leveraging the momentum created by the Heavily Indebted Poor Countries (HIPC) Initiative.” ⁴⁴ Moreover, “despite multiple climatic shocks and a complicated security situation, Somalia continued advancing structural reforms and maintained a track record of sound macroeconomic management, as evidenced by the satisfactory implementation of the International Monetary Fund (IMF) Extended Credit Facility (ECF) program.” ⁴⁵ Mogadishu, Somalia's capital, is experiencing a transformative “building boom”: “. . . for the first time in decades, the three million inhabitants of the capital Mogadishu . . . are witnessing a building boom.” ⁴⁶ The BBC reported: “[a]ccording to the office of the mayor of Mogadishu, over the last years, more than 6,000 buildings have been constructed, marking a significant change in the city's landscape. Further, “[s]ecurity in Mogadishu has improved, leading to an increase in high-rise and commercial buildings,” says Salah Hassan Omar, the mayor's spokesperson.” ⁴⁷ These recent developments in Somalia underscore the progress made across multiple sectors and demonstrates the country's commitment to addressing challenges and fostering growth.

⁴⁴ World Bank, “Federal Republic of Somalia: Overview” (last updated Sept. 26, 2025), https://www.worldbank.org/en/country/somalia/overview.

⁴⁵ Id.

⁴⁶ Barron's, “Rising From The Ashes: Mogadishu's Building Boom” (Nov. 23, 2025), https://www.barrons.com/news/rising-from-the-ashes-mogadishu-s-building-boom-53c34085?reflink=desktopwebshare_permalink.

⁴⁷ BBC, “The women at the centre of Somalia's construction boom” (June 14, 2025), https://www.bbc.com/news/articles/cj427dy11j0o.

Based on the review, the Secretary has determined that while some extraordinary and temporary conditions may exist in Somalia, they do not prevent Somali nationals (or aliens having no nationality who last habitually resided in Somalia) from returning in safety.

By statute, the Secretary is prohibited from designating a country for Temporary Protected Status or extending a Temporary Protected Status designation on the basis of extraordinary and temporary conditions if she finds that “permitting the aliens to remain temporarily in the United States is contrary to the national interest of the United States.” ⁴⁸ The Secretary has concluded that permitting Somali nationals to remain temporarily in the United States would be contrary to the national interest of the United States.

⁴⁸ See INA sec. 244(b)(1)(C), 8 U.S.C. 1254a(b)(1)(C).

“National interest” is an expansive standard that may encompass an array of broad considerations, including foreign policy, public safety (e.g., potential nexus to criminal gang membership), national security, migration factors (e.g., pull factors), immigration policy (e.g., enforcement prerogatives), and economic considerations (e.g., adverse effects on U.S. workers, impact on U.S. communities).⁴⁹ Determining whether permitting a class of aliens to remain temporarily in the United States is contrary to the U.S. national interest therefore calls upon the Secretary's expertise and discretionary judgment, informed by consultations with appropriate U.S. Government agencies.

⁴⁹ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

There are significant public safety and national security risks associated with the continued designation of Temporary Protected Status for Somalia. The United States named Al Shabaab a Foreign Terrorist Organization (FTO) on March 18, 2008.⁵⁰ In Executive Order 13536, former President Obama found “that the deterioration of the security situation and the persistence of violence in Somalia, and acts of piracy and armed robbery at sea off the coast of Somalia, which have repeatedly been the subject of United Nations Security Council resolutions . . . constitute an unusual and extraordinary threat to the national security and foreign policy of the United States” and, declared “a national emergency to deal with that threat.” ⁵¹ Although the United States never formally severed diplomatic relations with Somalia, the U.S. Embassy in Somalia was closed in 1991. The United States formally recognized the new Federal Government of Somalia on January 17, 2013, following the adoption of a provisional constitution.⁵² This lack of diplomatic engagement severely limits the U.S. government's ability to access reliable Somali records. Furthermore, the caliber of the civil and criminal history records is not comprehensive, accurate, or reliable, making meaningful vetting virtually impossible. In a January 20, 2025 Executive Order, President Trump instructed the Secretary of State, Attorney General, Secretary of Homeland Security, and the Director of National Intelligence to “vet and screen to the maximum degree possible all aliens who intend to be admitted, enter, or are already inside the United States, particularly those aliens coming from regions or nations with identified security risks.” ⁵³ Due to this lengthy gap in U.S. diplomatic engagement, the United States cannot adequately vet Somali nationals, particularly aliens who were approved for TPS during this period of 1991-2013, for identity, criminal history, or potential terrorist affiliations, posing an ongoing threat to public safety and national security of the United States.

⁵⁰ U.S. Department of State, “Foreign Terrorist Organizations” (last updated Nov. 24, 2025), https://www.state.gov/foreign-terrorist-organizations.

⁵¹ Blocking Property of Certain Persons Contributing to the Conflict in Somalia, 75 FR 19869 (Apr. 15, 2010).

⁵² U.S. Department of State, “U.S.-Somalia Relations” (last visited Nov 24, 2025), https://2021-2025.state.gov/countries-areas/somalia/#:~:text=Although%20the%20U.S.%20never%20formally,Somalia%20on%20January%2017%2C%202013.

⁵³ Protecting the United States From Foreign Terrorists and Other National Security and Public Safety Threats, 90 FR 8451 (Jan. 30, 2025).

These national security and public safety vulnerabilities have already been proven in the United States. In 2009, the U.S. Senate Committee on Homeland Security and Governmental Affairs held hearings titled “Violent Islamist Extremist: Al-Shabaab Recruitment in America” (Mar. 11, 2009) and “Eight Years After 9/11: Confronting the Terrorist Threat to the Homeland” (Sept. 30, 2009).⁵⁴ During a hearing, Chairman Lieberman had the following opening statement:

⁵⁴ U.S. Senate, Committee on Homeland Security and governmental Affairs, March 11, 2009 and September 30, 2009, https://www.govinfo.gov/content/pkg/CHRG-111shrg49640/html/CHRG-111shrg49640.htm.

“Today we are going to focus on what appears to be the most significant case of homegrown American terrorism recruiting based on violent Islamist ideology. The facts, as we know them, tell us that over the last 2 years, individuals from the Somali-American community in the United States, including American citizens, have left for Somalia to support and in some cases fight on behalf of al-Shabaab, which, incidentally was designated as a foreign terrorist organization by our government in February 2008.

There are ideological, tactical, financial, and also personnel links between al-Shabaab and al-Qaeda.

Al-Shabaab, meanwhile, continues to release recruiting videos targeting Westerners, and those videos are surely being watched by some potential followers here in the United States. In the most graphic and deadly example of a direct connection between the Somali-American community and international terrorism, Shirwa Ahmed, a naturalized U.S. citizen living in the Minneapolis area, returned to Somalia within the last 2 years and killed himself and many others in a suicide bombing last October. According to Federal Bureau of Investigations (FBI) Director Robert Mueller, Shirwa Ahmed, who was radicalized in Minnesota, is probably the first U.S. citizen to carry out a terrorist suicide bombing.” ⁵⁵

⁵⁵ Id.

In a separate congressional hearing by the Committee on Homeland Security in the House of Representatives, the Committee found: “Al-Shabaab has conducted recruitment and fundraising within the Somali diaspora community in the United States, drawing considerable attention from U.S. law enforcement officials. Several Somali-Americans have been prosecuted for terrorist financing, and U.S. citizens (many, but not all, of Somali origin) have been indicted on suspicion of traveling to train and fight with al-Shabaab. Others have been prosecuted for efforts to recruit or provide financial support to the group.” ⁵⁶

⁵⁶ U.S. House of Representatives, Committee on Homeland Security, “From Al-Shabaab to Al-Nusra: How Westerners Joining Terror Groups Overseas Affect the Homeland” (Oct. 9, 2013), https://www.congress.gov/event/113th-congress/house-event/LC1003/text.

These threats and concerns remain ongoing. In October 2025, Abdisatar Ahmed Hasan, 23, pled guilty to attempting to provide material support and resources to a designated foreign terrorist organization. Hasan publicly supported Al Shabaab and later ISIS in multiple social media posts and praised terrorist attacks globally and in the United States. In December 2024, he twice attempted to travel one-way from Minnesota to Somalia with the intent to join and fight on behalf of ISIS.⁵⁷ It is deeply troubling that a young Somali man ⁵⁸ with so many opportunities in the United States would choose to support Al Shabaab, a terrorist organization in Somalia. This case also raises serious concerns about inadequate vetting processes, reflecting potential gaps in how aliens were screened before being granted access to such opportunities. On December 1, 2025, Treasury Secretary Scott Bessent announced that the U.S. Treasury is “investigating allegations that . . . Minnesotans' tax dollars may have been diverted to the terrorist organization Al-Shabaab.” ⁵⁹ DHS records indicate there are Somali nationals (or aliens who last habitually resided in Somalia) who are Temporary Protected Status beneficiaries or applicants who are or have been the subject of administrative investigations for fraud, public safety, and national security. The Secretary accordingly took account of those cases in making her determination, as fraud and egregious public safety violations are contrary to the national interest.

⁵⁷ U.S. Department of Justice, “Press Release: ISIS Supporter Pleads Guilty to Material Support of Terrorism” (Oct. 1, 2025), https://www.justice.gov/usao-mn/pr/isis-supporter-pleads-guilty-material-support-terrorism.

⁵⁸ U.S. Department of Justice, “United States District Court for the District of Minnesota, United States of America v. Abdisatar Ahmed Hassan” Case No. 25-mj-104 (DLM) (Feb. 27, 2025), https://www.justice.gov/d9/2025-02/25-mj-104_complaint_packet.pdf (“HASSAN is a twenty-two-year-old ethnic-Somali male resident of Minneapolis, Minnesota . . . [a] review of records provided by [USCIS] indicate HASSAN was born in Garissa, Kenya, in 2002. HASSAN's parents were both listed as having been born in Badade (variant Badhadhe), Somalia, which is located in the Lower Juba Region in southern Somalia.”)

⁵⁹ X (formerly known as Twitter), Treasury Secretary Scott Bessent @SecScottBessent (Dec. 1, 2025), https://x.com/secscottbessent/status/1995615377284628908?s=46&t=qR3vODA0Fo4X5Pm3n4psEw.

In Presidential Proclamation “Restricting the Entry of Foreign Nationals to Protect the United States From Foreign Terrorists and Other National Security and Public Safety Threats” President Trump imposed a full suspension on the admission of Somali nationals along with nationals from 11 other countries, upon country identification by the Secretary of State and after accounting for the United States' foreign policy, national security, and counterterrorism objectives.⁶⁰ For Somalia, reasons included: “Somalia lacks a competent or cooperative central authority for issuing passports or civil documents and it does not have appropriate screening and vetting measures” and “[a] persistent terrorist threat also emanates from Somalia's territory.” ⁶¹ This was in direct response to the January 20, 2025 Executive Order, in which President Trump instructed the Secretary of State, Attorney General, Secretary of Homeland Security, and the Director of National Intelligence to “vet and screen to the maximum degree possible all aliens who intend to be admitted, enter, or are already inside the United States, particularly those aliens coming from regions or nations with identified security risks.” ⁶² On December 16, 2025, President Trump issued a new Presidential Proclamation “Restricting and Limiting the Entry of Foreign Nationals to Protect the Security of the United States,” in which he determined to continue to fully restrict and limit the entry of nationals from Somalia.⁶³

⁶⁰ Restricting the Entry of Foreign Nationals To Protect The United States From Foreign Terrorists and Other National Security and Public Safety Threats, 90 FR 24497 (June 10, 2025).

⁶¹ Id.

⁶² Protecting the United States From Foreign Terrorists and Other National Security and Public Safety Threats, 90 FR 8451 (Jan. 30, 2025).

⁶³ Restricting and Limiting the Entry of Foreign Nationals to Protect the Security of the United States, 90 FR 59717 (Dec. 19, 2025) (originally published Dec. 16, 2025).

According to the Fiscal Year (FY) 2024 DHS Entry/Exit Overstay Report, Somalia had a non-visa waiver program countries business or pleasure visitors (B-1/B-2) visa overstay rate of 21.3% and a student and exchange visitors (F, M, J) visa overstay rate of 25%.⁶⁴ These rates exceed by a large margin the global average overstay rates of 2.3% for B-1/B-2 visas and 3.2% for F, M, J visas—over nine times higher for business or pleasure visitors and seven times higher for student and exchange visitors.⁶⁵ Somalia's visa overstay rates have remained high compared to the global average from FY 2018 to FY 2024.⁶⁶ Overstaying the authorized period of admission in nonimmigrant status is a violation of U.S. immigration laws and presents challenges for immigration enforcement and resource allocation. Visa overstaying diverts resources from other critical enforcement priorities such as addressing illegal border crossings. The high-volume border environment under the previous administration, which facilitated unauthorized entries, coupled with gaps in access to verifiable information for Somali nationals, has left the United States unable to adequately vet nationals from Somalia.

⁶⁴ U.S. Customs and Border Protection, Entry/Exit Overstay Report, Department of Homeland Security (Jul. 16, 2025), https://www.dhs.gov/sites/default/files/2025-08/25_0826_cbp_entry-exit-overstay-report-fiscal-year-2024.pdf.

⁶⁵ Id.

⁶⁶ Id.

There are well-documented concerns related to benefit fraud with this population. Recently, the Department of Justice charged a defendant with engaging in wire fraud as part of a $14 million autism fraud scheme. Per the charges filed against the defendant, Asha Farhan Hassan, she and her partners approached parents in the Somali community to recruit their children into Smart Therapy and worked to get children qualified for autism treatment regardless of need. Then, “as a recruitment tactic to drive up enrollment, Hassan and her partners paid monthly cash kickback payments to the parents of children who enrolled their children in Smart Therapy to receive autism services.” ⁶⁷ In 2023, a couple pleaded guilty to their roles in a $250 million fraud scheme that exploited a federally funded child nutrition program during the COVID-19 pandemic. Per the Department of Justice, “Ali and Hussein enrolled their companies, Lido Restaurant and Somali American Faribault Education (SAFE) respectively, in the Federal Child Nutrition Program under the sponsorship of Feeding Our Future. After enrolling, Hussein and Ali began submitting fraudulently inflated invoices for reimbursement in which they claimed to be serving meals to thousands of children a day.” ⁶⁸ In 2024, three others, Haji Osman Salad, Sharmarke Issa and Khadra Abdi, pleaded guilty to their roles in the same $250 million fraud scheme that exploited a federally funded child nutrition program during the COVID-19 pandemic. According to the Department of Justice, “between June 2020 through 2022, Salad falsely claimed that Haji's Kitchen was a food vendor for more than 15 million meals to various Federal Child Nutrition Program sites in Minnesota . . . [a]ccording to court documents, Issa, the principal of Minnesota's Somali Community and Wacan Restaurant LLC, fraudulently received Federal Child Nutrition Program funds under the sponsorship of Sponsor A and Feeding Our Future, respectively.” ⁶⁹

⁶⁷ U.S. Department of Justice, “Press Release: First Defendant Charged in Autism Fraud Scheme” (Sept. 24, 2025), https://www.justice.gov/usao-mn/pr/first-defendant-charged-autism-fraud-scheme-0.

⁶⁸ U.S. Department of Justice, “Press Release: Faibault Couple Plead Guilty to Their Roles in $250 Million Feeding Our Future Fraud Scheme” (Jun. 6, 2023), https://www.justice.gov/usao-mn/pr/faribault-couple-plead-guilty-their-roles-250-million-feeding-our-future-fraud-scheme.

⁶⁹ U.S. Department of Justice, “Press Release: Three Plead Guilty to Wire Fraud in $250 Million Feeding Our Future Fraud Scheme” (Sept. 20, 2024), https://www.justice.gov/usao-mn/pr/three-plead-guilty-wire-fraud-250-million-feeding-our-future-fraud-scheme.

Fraud and misrepresentation with U.S. immigration petitions have also been a concern. In 2017, DHS announced that it was seeking denaturalization against four Somali nationals who engaged in fraud and misrepresentation. In that case, Fosia Abdi Adan, a native of Somalia, applied for and received a diversity visa and used her visa to unlawfully obtain beneficiary visas for three aliens who she purported to be her husband and children despite having no relationship to them, and their using completely false identities.⁷⁰ In July 2025, a Somali national with familial ties to ISIS-Somalia was sentenced in federal court for committing asylum fraud.⁷¹

⁷⁰ DHS, “Denaturalization Sought Against Four Somalia-born Individuals Who Falsely Claimed to be a Family and Were Admitted to the United States on Diversity Immigrant Visas” (Nov. 6, 2017), https://www.dhs.gov/archive/news/2017/11/06/denaturalization-sought-against-four-somalia-born-individuals-who-falsely-claimed.

⁷¹ U.S. Department of Justice, “Press Release: Somali National with Familial Ties to ISIS-Somalia Sentenced for Committing Asylum Fraud” (Jul. 28, 2025), https://www.justice.gov/usao-sdca/pr/somali-national-familial-ties-isis-somalia-sentenced-committing-asylum-fraud-0.

There are compelling foreign policy reasons for ending the Temporary Protected Status designation for Somalia. In Executive Order “America First Policy Directive to the Secretary of State,” President Trump declared “from this day forward, the foreign policy of the United States shall champion core American interests and always put America and American citizens first.” Moreover, it instructed “as soon as practicable, the Secretary of State shall issue guidance bringing the Department of State's policies, programs, personnel, and operations in line with an America First foreign policy, which puts America and its interests first.” ⁷² In recent remarks, John Kelley, a Political Counselor at the U.S. Mission to the United Nations stated “[t]he United States remains committed to the fight against terrorism in Somalia, but it is ultimately time for other partners with vested interests in Somalia's security, stability, and future to increase their financial contributions.” ⁷³ In light of these directives and statements, it is clear that ending Temporary Protected Status for Somalia aligns with U.S. foreign policy by prioritizing American interests and encouraging greater international responsibility.

⁷² America First Policy Directive to the Secretary of State, 90 FR 8337 (Jan. 29, 2025).

⁷³ U.S. Mission to the UN, “Remarks at a UN Security Council Briefing on Cooperation Between the UN and the African Union (AU),” Oct. 7, 2025, https://usun.usmission.gov/remarks-at-a-un-security-council-briefing-on-cooperation-between-the-un-and-the-african-union-au/.

In sum, the Secretary's decision to terminate the Temporary Protected Status designation for Somalia is grounded in a comprehensive assessment of national interest factors including public safety, national security, immigration integrity, foreign policy, as well as an analysis of the nature of the violence in the country today. The significant change in armed conflict from the initial designation of Temporary Protected Status for Somalia in September 1991 to the present shows that violence no longer constitutes an ongoing armed conflict nor does it fully prohibit Somali nationals from returning in safety. Moreover, in light of the continued national security and public safety risks combined with the fraud and foreign policy considerations, these factors considered individually and cumulatively establish that Somalia no longer meets the statutory basis for Temporary Protected Status.

DHS estimates that there are 1,082 ⁷⁴ current approved beneficiaries under the designation of Somalia for Temporary Protected Status. As of December 8, 2025, there are 1,383 total pending applications for the designation of Somalia for Temporary Protected Status.

⁷⁴ DHS, Office of Performance and Quality, estimate as of Dec. 8, 2025.

Effective Date of Termination of the Designation

The Temporary Protected Status statute provides that the termination of a country's Temporary Protected Status designation may not be effective earlier than 60 days after the notice is published in the Federal Register or, if later, the expiration of the most-recent previous extension. See INA sec. 244(b)(3)(B), 8 U.S.C. 1254a(b)(3)(B).

The Temporary Protected Status statute authorizes the Secretary, at her discretion, to allow for an extended “orderly transition” period with respect to the termination and the expiration of any Temporary Protected Status-related documentation, such as EADs. The Secretary has determined, in her discretion, that a 60-day transition period is sufficient and warranted here given the Secretary's finding that continuing to permit Somali nationals to remain temporarily in the United States is contrary to the U.S. national interest. See INA sec. 244(d)(3), 8 U.S.C. 1254a(d)(3). Accordingly, the termination of the Somalia Temporary Protected Status designation will be effective 60 days from this notice's publication date.⁷⁵

⁷⁵ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

DHS recognizes that Somalia Temporary Protected Status beneficiaries under the designation continue to be employment authorized during the 60-day transition period.⁷⁶ Accordingly, through this Federal Register notice, DHS automatically extends the validity of certain EADs previously issued under the Temporary Protected Status designation of Somalia through March 17, 2026. Therefore, as proof of continued employment authorization through March 17, 2026, Temporary Protected Status beneficiaries can show their EADs that have the notation A-12 or C-19 under Category and a “Card Expires” date of March 17, 2023, September 17, 2024, and March 17, 2026.

⁷⁶ See INA 244(a)(1)(B), 8 U.S.C. 1254a(a)(1)(B); see also 8 CFR 244.13(b).

The Secretary has considered putative reliance interests in the Somalia Temporary Protected Status designation, especially when considering whether to allow for an additional transition period akin to that allowed under certain previous Temporary Protected Status terminations. Temporary Protected Status, as the name itself makes clear, is an inherently temporary status. Temporary Protected Status designations are time-limited and must be periodically reviewed, as frequently as every six months in some cases, and Temporary Protected Status notices clearly notify aliens of the designations' expiration dates. Further, whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3)(A)-(B), (d)(3); 8 U.S.C. 1254a(b)(3)(A)-(B), (d)(3).

Notice of the Termination of the Temporary Protected Status Designation of Somalia

By the authority vested in me as Secretary under INA section 244(b)(3), 8 U.S.C. 1254a(b)(3), I have reviewed, in consultation with the appropriate U.S. Government agencies, (a) conditions in Somalia; (b) whether permitting nationals of Somalia (and aliens having no nationality who last habitually resided in Somalia) to remain temporarily in the United States is contrary to the national interest of the United States; and (c) whether Somalia is experiencing ongoing armed conflict that poses a serious threat to the personal safety of Somali nationals. Based on my review, I have determined that Somalia no longer continues to meet the conditions for Temporary Protected Status under INA sections 244(b)(1)(A), 8 U.S.C. 1254a(b)(1)(A) and 244(b)(1)(C), 8 U.S.C. 1254a(b)(1)(C).

Accordingly, I order as follows:

(1) Pursuant to INA section 244(b)(3)(B), 8 U.S.C. 1254a(b)(3)(B), and considering INA section 244(d)(3), 8 U.S.C. 1254a(d)(3), the designation of Somalia for Temporary Protected Status is terminated effective at 11:59 p.m., local time, on March 17, 2026.

(2) Information concerning the termination of Temporary Protected Status for nationals of Somalia (and aliens having no nationality who last habitually resided in Somalia) under the designation will be available at local USCIS offices upon publication of this notice and through the USCIS Contact Center at 1-800-375-5283. This information will also be published on the USCIS website at www.uscis.gov.

Kristi Noem,
Secretary of Homeland Security.

[FR Doc. 2026-00596 Filed 1-13-26; 11:15 am]

BILLING CODE 9111-97-P